DEPARTMENT OF HEALTH AND HUMAN SERVICES

Office of Refugee Resettlement

Grant to United States Conference of Catholic Bishops

AGENCY: Office of Refugee Resettlement, Administration for Children and Families (ACF), Department of Health and Human Services (DHHS).

ACTION: Award announcement.

CFDA#: The Catalog of Federal Domestic Assistance (CFDA) number for this program is 93.576. The title is the Refugee Family Enrichment Program.

Amount of Award: $194,000.

SUMMARY: Notice is hereby given that a noncompetitive single source program expansion supplement to an ongoing competitive award is being made to the United States Conference of Catholic Bishops (USCCB) in response to an unsolicited application. The application is not within the scope of any existing or expected to be issued program announcement for the Fiscal Year 2006. USCCB's application is expected to address issues critical to the development and implementation of marriage education programs for refugees by opening three new program sites.

In September of 2003, ORR awarded USCCB a grant of $1,000,000,000 to develop a Refugee Family Enrichment program which included technical assistance to subgrantees. Over the past two years, USCCB has established an effective program in sites that have successfully prepared thousands of refugee families for the challenges they will face during resettlement. Because other Refugee Marriage Enrichment grantees are primarily regional in scope, we believe USCCB is uniquely suited to effectively implement this supplemental award. USCCB has affiliates across the country and has no physical or programmatic limitations regarding which ethnic groups they can serve. We believe that by allowing them to increase the number of sites, that it would be a cost-effective way of helping more refugees develop the skills that help their marriages succeed and give their children a better chance of success in the U.S. Without it, these sites might struggle to provide refugee clients with the programs they need in order to achieve self-sufficiency.

The proposed project period is 9/30/2005-9/29/2006.

Assistance to support grantees in developing better approaches to the delivery of services provided to refugees is authorized by section 412(c)(1)(A) of the Immigration and Nationality Act (8 U.S.C. 1522(c)(1)).

FOR FURTHER INFORMATION CONTACT: Administration for Children and Families, Office of Refugee Resettlement, 370 L'Enfant Promenade, SW., Washington, DC 20447, Loren Bussert—(202) 401-4732, lbussert@acf.hhs.gov.

Dated: September 15, 2005.
Nguyen Van Hanh,
Director, Office of Refugee Resettlement.

[FR Doc. 05-18847 Filed 9-20-05; 8:45 am]

BILLING CODE 4184-01-P